DEPARTMENT OF COMMERCE

National Oceanic and Atmospheric Administration

[I.D. 111605G]

Gulf of Mexico Fishery Management Council; Public Meetings

AGENCY: National Marine Fisheries Service (NMFS), National Oceanic and Atmospheric Administration (NOAA), Commerce.

ACTION: Notice of Council task force to convene via Conference Call.

SUMMARY: The Gulf of Mexico Fishery Management Council (Council) will convene a task force comprised of Council members, Council staff, and Scientific and Statistical Committee (SSC) members via conference call to address the operations of the SSC governing their activities.

DATES: The Conference Call will be held on Monday, December 12, 2005.

ADDRESSES: The meeting will be held via conference call and a listening station will be available. For specific locations see SUPPLEMENTARY INFORMATION.

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Gulf of Mexico Fishery Management Council (Council) will convene a task force comprised of Council members, Council staff and Scientific and Statistical Committee (SSC) members by conference call on December 12, 2005 at 10 a.m. EST.

The purpose of the meeting is to discuss the operations governing activities of the SSC and to make recommendations to the Council. The Council will hear these recommendations at the meeting in Corpus Christi, TX, scheduled for January 9 - 12, 2006.

A listening station for members of the public to hear the discussion will be set up at the National Marine Fisheries Service Southeast Regional Office, 263 13th Avenue South, Saint Petersburg, FL 33701; contact: Virginia Fay; telephone: (727) 551-5785.

A copy of related materials can be obtained by calling the Council office at (813) 348-1630.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Dawn Aring at the Council (see ADDRESSES) at least 5 working days prior to the meeting.

Dated: November 18, 2005.
Emily Menashes,
Acting Director, Office of Sustainable Fisheries, National Marine Fisheries Service.

[FR Doc. E5-6511 Filed 11-23-05; 8:45 am]

BILLING CODE 3510-22-S